DEPARTMENT OF COMMERCE

National Oceanic and Atmospheric Administration

50 CFR Part 660

[Docket No. 250618-0101; RTID 0648-XE809]

Fisheries off West Coast States; Coastal Pelagic Species Fisheries; Annual Specifications; 2025-2026 Annual Specifications and Management Measures for Pacific Sardine

AGENCY: National Marine Fisheries Service (NMFS), National Oceanic and Atmospheric Administration (NOAA), Commerce.

ACTION: Proposed rule; request for comments.

SUMMARY: NMFS proposes to implement annual harvest specifications and management measures for the northern subpopulation of Pacific sardine (hereafter, Pacific sardine), for the fishing year from July 1, 2025 through June 30, 2026. This proposed rule would prohibit most directed commercial fishing for Pacific sardine off the coasts of Washington, Oregon, and California. Pacific sardine harvest would be allowed only for use as live bait, in minor directed fisheries, as incidental catch in other fisheries, or as authorized under exempted fishing permits. The proposed harvest specifications for 2025-2026 include an overfishing limit of 4,645 metric tons (mt), an acceptable biological catch of 3,957 mt, an annual catch limit of 2,200 mt, and an annual catch target of 2,100 mt. This proposed rule is intended to conserve, manage, and rebuild the Pacific sardine stock off the coasts of Washington, Oregon, and California.

DATES: Comments must be received by July 11, 2025.

ADDRESSES: A plain language summary of this rule is available at https://www.regulations.gov/docket/NOAA-NMFS-2024-0040. You may submit comments on this document, identified by NOAA-NMFS-2024-0040, by the following method:

• Electronic Submissions: Submit all public comments via the Federal e-Rulemaking Portal. Go to https://www.regulations.gov and enter NOAA-NMFS-2024-0040 in the Search box. Click on the “Comment” icon, complete the required fields, and enter or attach your comments.

Instructions: Comments sent by any other method or received after the end of the comment period may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Katie Davis, West Coast Region, NMFS, (323) 372-2126, Katie.Davis@noaa.gov.

SUPPLEMENTARY INFORMATION: NMFS manages the Pacific sardine fishery in the U.S. exclusive economic zone (EEZ) off the Pacific coast (i.e., off the U.S. West Coast states of California, Oregon, and Washington) in accordance with the Coastal Pelagic Species (CPS) Fishery Management Plan (FMP). The CPS FMP and its implementing regulations require NMFS to set annual reference points and management measures for the Pacific sardine fishery based on the annual specification framework and control rules in the FMP. These control rules include the harvest guideline (HG) control rule, which, in conjunction with the overfishing limit (OFL) and acceptable biological catch (ABC) control rules in the FMP, are used to set required reference points, in accordance with the Magnuson-Stevens Fishery Conservation and Management Act (MSA) (16 U.S.C. 1801 et seq.).

The NMFS Southwest Fisheries Science Center (SWFSC) conducts annual stock assessments for Pacific sardine, typically alternating between benchmark assessments in one year and update assessments the following two years. During public meetings each year, the Council and its advisory bodies, including the CPS Management Team, CPS Advisory Subpanel, and Scientific and Statistical Committee (SSC), review the estimated biomass and the status of the fishery in these stock assessments, and recommend applicable reference points, catch limits, and management measures. Following Council review and public comment, the Council recommends these harvest specifications and management measures and any in-season accountability measures to NMFS, who then reviews the Council's recommendations to ensure they are consistent with the CPS FMP and all applicable laws. Following that review, NMFS publishes annual specifications in the Federal Register to establish annual reference points (e.g., the OFL, ABC, and annual catch limit (ACL)) and management measures for each Pacific sardine fishing year.

In 2019, the estimated stock biomass of Pacific sardine dropped below its 50,000-metric-ton minimum stock size threshold (MSST), and NMFS declared the stock overfished. A rebuilding plan for Pacific sardine was finalized as Amendment 18 to the CPS FMP on June 24, 2021 (86 FR 33142), which was challenged in the U.S. District Court for the Northern District of California (Court). In 2024, the Court partially vacated Amendment 18 and ordered NMFS to implement a revised Pacific sardine rebuilding plan by June 1, 2025. The Council submitted their recommendations for a revised Pacific sardine rebuilding plan to NMFS as Amendment 23 to the CPS FMP for review by the Secretary of Commerce. NMFS published an announcement of the availability of Amendment 23 to the CPS FMP on March 12, 2025 (90 FR 11817). If approved, Amendment 23 would set ACLs based on tiered biomass levels: when the estimated biomass is 50,000 mt or less, the ACL would be the lesser of the calculated ABC or 2,200 mt; when the biomass is greater than 50,000 mt, the ACL would be the lesser of the calculated ABC or 5 percent of the biomass.

This rule proposes the Council's recommended catch limits for the July 1, 2025-June 30, 2026 fishing year consistent with their November 2024 recommendations on a revised Pacific sardine rebuilding plan, management measures to ensure that harvest does not exceed those limits, an OFL, and an ABC that takes into consideration uncertainty surrounding the OFL.

Recommended Catch Limits

At the Council's April 2025 meeting, the Council and its advisory bodies reviewed the 2025 stock assessment update for Pacific sardine. Based on this assessment, the associated estimated age 1+ biomass of 30,158 mt, and the control rule formulas in the FMP, NMFS is proposing, as the Council recommended, an OFL of 4,645 mt, an ABC of 3,957 mt, and an ACL of 2,200 mt. The proposed OFL and ABC were based on the control rules in the FMP and on recommendations from the Council's SSC and their determination of best scientific information available for calculating the OFL and recommended precautionary buffer for the ABC.

Since 2014, the SSC has recommended the use of a temperature-recruitment relationship based on a running 3-year average of the California Cooperative Oceanic Fisheries Investigations (CalCOFI) temperature index to calculate the EMSY for Pacific sardine. EMSY is a parameter of the OFL and ABC harvest control rules (see table 1). During recent annual specification discussions, the SSC has recommended that the analysis and assumptions surrounding a CalCOFI-based EMSY be revisited. To help inform the SSC's recommendation for this year's proposed reference points, NMFS conducted a correlation analysis of the CalCOFI-based temperature with sardine productivity (recruits-per-spawner) for the years 1983-2023; an update from the last analysis in 2013 that examined data from 1984 to 2008. In February 2025, NMFS presented the analysis to the SSC's CPS Subcommittee, which reported that “the analysis demonstrates there is still valid statistical evidence for a relationship between CalCOFI [sea surface temperature] and recruits-per-spawner.” At the April 2025 Council meeting, the full SSC reviewed the analysis and reported that it “provides the first of many steps toward potentially updating EMSY for Pacific sardine, but does not compel a change at this time.” The SSC recommended the 2025-2026 OFL and ABC be calculated using the “status quo approach to EMSY,” which uses the CalCOFI temperature index.

According to the CPS FMP, the catch limit for the primary directed fishery is determined using the FMP-specified HG formula. This Pacific sardine HG control rule, the primary mechanism for setting the primary directed fishery catch limit, includes a CUTOFF parameter, the lowest level of estimated biomass at which directed harvest is allowed (a biomass level of 150,000 mt). This amount is subtracted from the annual biomass estimate before calculating the applicable HG for the fishing year. Because the biomass estimate used this year (30,158 mt) is below that value, the formula results in an HG of zero, and no Pacific sardine are available for the primary directed fishery during the 2025-2026 fishing season.

Pacific sardine catch during the 2025-2026 fishing season is therefore prohibited unless it is harvested as part of the live bait, tribal,¹ or minor directed fisheries, as incidental catch in other fisheries, or as part of exempted fishing permit (EFP) activities. For these small types of harvests, NMFS is proposing, as the Council recommended, an annual catch target (ACT) of 2,100 mt for the 2025-2026 fishing year. The recommended reference point calculations (i.e., OFL, ABC, and HG as established under Amendment 13 and ACL consistent with their recommendation under Amendment 23 to the CPS FMP) are presented below in table 1.

¹ For the 2025-2026 fishing year, the Quinault Indian Nation has not requested a tribal set-aside, and therefore none is proposed.

Table 1—Overfishing Limit (OFL), Acceptable Biological Catch (ABC), Harvest Guideline (HG), and Annual Catch Limit (ACL) Calculations ¹
Harvest specification and formula parameters | Value
BIOMASS (ages 1+, mt) | 30,158
BUFFER Pstar (Category 2) | 0.8519
Calculated EMSY | 0.1771
DISTRIBUTION (U.S.) | 0.87
2024-2025 Pacific sardine annual specifications | Metric tons
OFL = BIOMASS * EMSY * DISTRIBUTION | 4,645
ABC = BIOMASS * BUFFER0.45 * EMSY * DISTRIBUTION | 3,957
HG | 0
ACL | 2,200
ACT | 2,100
¹ BUFFER is the percentage reduction of the OFL as determined by the SSC's evaluation of scientific uncertainty (sigma) and the Council's risk policy (P*).

The following are the additional proposed management measures and in-season accountability measures for the 2025-2026 Pacific sardine fishing year:

(1) An incidental per-landing limit of 20 percent (by weight) of Pacific sardine applies to other CPS primary directed fisheries (e.g., Pacific mackerel);

(2) If the ACT of 2,100 mt is attained, then a per-trip limit of 1 mt of Pacific sardine would apply to all CPS fisheries (i.e., (1) would no longer apply); and

(3) An incidental per-landing allowance of 2 mt of Pacific sardine would apply to non-CPS fisheries until the ACL is reached.

In addition to the management measures and in-season accountability measures listed in the previous paragraphs, Pacific sardine catch in the minor directed fishery for finfish remains limited to 1 mt per trip per day, and 1 trip per day by any vessel, per regulations at 50 CFR 660.511(d)(2).

At the April 2025 meeting, the Council also recommended that NMFS approve one EFP proposal requesting an exemption from the prohibition to directly harvest sardine during their discussion of sardine management measures. The EFP proposal included a total amount of up to 520 mt, and will be reviewed and potentially approved by NMFS through a separate process.

All sources of catch including any fishing occurring as part of an EFP, the live bait fishery, and other minimal sources of harvest, such as incidental catch in CPS and non-CPS fisheries and minor directed fishing, would be accounted for against the ACT and ACL.

The NMFS West Coast Regional Administrator would publish a notice in the Federal Register to announce when catch reaches the incidental limits, as well as any changes to allowable incidental catch percentages or trip limits. Additionally, to ensure that the regulated community is informed of any closure, NMFS would make announcements through other means available, including emails to fishermen, processors, and state fishery management agencies.

Classification

Pursuant to section 304(b)(1)(A) of the MSA, the NMFS Assistant Administrator has determined that this proposed rule is consistent with the CPS FMP, other provisions of the MSA, and other applicable law, subject to further consideration after public comment.

NMFS finds that a 15-day comment period for this action provides a reasonable opportunity for public participation in this action pursuant to Administrative Procedure Act section 553(c) (5 U.S.C. 553(c)), while also ensuring that the final specifications are in place for the start of the Pacific sardine fishing year on July 1, 2025. Annual harvest specifications and management measures for Pacific sardine are based on an annual stock assessment, which is usually finalized in early Spring and reviewed by the Council and its advisory bodies during the Council's regularly-scheduled meeting in April. NMFS received the recommendations from the Council that form the basis for this rule following the Council's April 2025 meeting. The Council provided an opportunity for public comment at that meeting, as it does every year before adopting the recommended harvest specifications and management measures for the proceeding fishing year. The subject of this proposed rule—the establishment of the reference points—is considered a routine action, because they are calculated annually based on the framework control rules in the FMP. A prolonged comment period and subsequent potential delay in implementation past the start of the 2025 fishing year would be contrary to the public interest, as it could create confusion in the Pacific sardine industry around current specifications and management measures. Such a delay would effectively open the fishery without the restrictions necessary to manage harvest rates for a stock that is rebuilding.

This proposed rule is exempt from review under Executive Order 12866 because it is a routine rule that would implement regulations for less than 1 year.

This proposed rule is not an Executive Order 14192 regulatory action because this rule is not significant under Executive Order 12866.

The Chief Counsel for Regulation of the Department of Commerce certified to the Chief Counsel for Advocacy of the Small Business Administration that this proposed rule, if adopted, would not have a significant economic impact on a substantial number of small entities, for the reasons provided below.

For Regulatory Flexibility Act (RFA) purposes only, NMFS has established a small business size standard for businesses, including their affiliates, whose primary industry is commercial fishing (see 50 CFR 200.2). A business primarily engaged in commercial fishing (North American Industry Classification System (NAICS) code 11411) is classified as a small business if it is independently owned and operated, is not dominant in its field of operation (including its affiliates) and has combined annual receipts not in excess of $11 million for all its affiliated operations worldwide.

The purpose of this proposed rule is to conserve and rebuild the Pacific sardine stock by preventing overfishing, while still allowing limited harvest opportunity among differing fishery sectors. This will be accomplished by implementing the 2025-2026 annual specifications for Pacific sardine in the U.S. EEZ off the Pacific coast. The small entities that would be affected by the proposed action are the vessels that would be expected to participate in the primary directed Pacific sardine fishery as part of the Pacific coast CPS small purse seine fleet. In 2014 (i.e., the last year that a directed fishery for Pacific sardine was allowed) there were approximately 81 vessels permitted to operate in the directed sardine fishery component of the CPS fishery off the U.S. West Coast, with that total comprising 58 vessels in the Federal CPS limited entry fishery off California (south of lat. 39° N) and a combined 23 vessels in Oregon and Washington's state Pacific sardine fisheries. NMFS does not collect or have access to information about affiliation between vessels or affiliation between vessels and processing entities in this fishery, or receipts in Alaska, Hawai'i, or international fisheries, so it is possible that some impacted entities may exceed $11 million in ex-vessel revenue or another size-standard threshold. Based on available data, the average annual Pacific coast revenue per vessel for all west coast vessels, including those described above potentially affected by this rule, was well below the threshold level of $11 million as of 2025. Therefore, all of these vessels are considered small businesses under the RFA. Because each affected vessel is a small business, this proposed rule is considered to equally affect all of these small entities in the same manner. Therefore, this rule would not create disproportionate costs between small and large vessels/businesses.

The CPS FMP and its implementing regulations require NMFS to annually set an OFL, ABC, ACL, and HG or annual catch target for the Pacific sardine fishery based on the specified harvest control rules in the FMP applied to the current stock biomass estimate for that year. The derived annual HG is the level typically used to manage the principal commercial sardine fishery and is the harvest level NMFS typically uses for profitability analysis each year. As stated above, the CPS FMP dictates that when the estimated biomass drops below a certain level (150,000 mt), the HG is zero. Because there is again no directed fishing for the 2024-2025 fishing year, as has been the case for the last 10 years, this proposed rule will not change the potential profitability compared to the previous fishing year or years following the closure of the directed fishery. Additionally, the proposed 2025-2026 ACL is still expected to account for the various fishery sector needs (i.e., live bait, incidental catch in other CPS fisheries, EFPs, and minor directed fisheries).

The revenue derived from harvesting Pacific sardine is typically only one of the sources of fishing revenue for the commercial vessels that participate in this fishery. As a result, the economic impact to the fleet from the proposed action cannot be viewed in isolation. From year to year, depending on market conditions and availability of fish, most CPS/sardine vessels supplement their income by harvesting other species. Many vessels in California also harvest anchovy, mackerel, and, in particular, squid, making Pacific sardine only one component of a multi-species CPS fishery. Additionally, some sardine vessels that operate off of Oregon and Washington also fish for salmon in Alaska or squid in California during the times of the year when sardine are not available. The purpose of the incidental catch limits proposed in this action are to ensure the vessels impacted by a prohibition on directly harvesting sardine can still access these other profitable fisheries while minimizing Pacific sardine harvest.

CPS vessels typically rely on multiple species for profitability because abundance of Pacific sardine, like the other CPS stocks, is highly associated with ocean conditions and seasonality. Variability in ocean conditions and season results in variability in the timing and location of CPS harvest throughout the year. Because each species responds to ocean conditions in its own way, not all CPS stocks are likely to be abundant at the same time. Therefore, as abundance levels and markets fluctuate, the CPS fishery as a whole has relied on a group of species for its annual revenues.

Therefore, the proposed action, if adopted, will not have a significant economic impact on a substantial number of small entities. As a result, an Initial Regulatory Flexibility Analysis is not required, and none has been prepared.

This action does not contain a collection-of-information requirement for purposes of the Paperwork Reduction Act. There are no relevant Federal rules that may duplicate, overlap, or conflict with the proposed action.

Authority: 16 U.S.C. 1801 et seq.

Dated: June 23, 2025.
Samuel D. Rauch III,
Deputy Assistant Administrator for Regulatory Programs, National Marine Fisheries Service.

[FR Doc. 2025-11737 Filed 6-25-25; 8:45 am]

BILLING CODE 3510-22-P